DEPARTMENT OF DEFENSE

Department of the Army

Notice of Intent To License Government-Owned Inventions; Intent To License on a Partially-Exclusive Basis

AGENCY: Department of the Army, DoD.

ACTION: Notice.

SUMMARY: The inventions listed below are assigned to the United States Government as represented by the Secretary of the Army. The U.S. Army Edgewood Chemical Biological Center intends to license these inventions on a partially-exclusive basis to Biodetech LLC, a Maryland corporation with principal offices at 2224 Choate Rd., Fallston, MD 21047. The inventions to be licensed collectively enable the Agents of Biological Origin Identifier (ABOid) system, and are disclosed in U.S. Patent 8,412,464, issued April 2, 2013 and entitled “Methods for detection and identification of cell type” and U.S. Patent 8,224,581, issued July 17, 2012 and entitled “Methods for detection and identification of cell type.”

ADDRESSES: Requests for more information and/or objections should be directed to Jonathan Sampson, telephone: 410-436-3771, jonathan.d.sampson.civ@mail.mil, U.S. Army Edgewood Chemical Biological Center (ECBC), AMSRD-ECB-PI-BP-TT, Bldg. E3330/Rm. 241 5183 Blackhawk Road, APG, MD 21010-5424. Any requests or objections should be made within 15 days of the publication of this notice.

FOR FURTHER INFORMATION CONTACT: Amanda Yocum, Office of Research and Technology Applications, U.S. Army Edgewood Chemical Biological Center, AMSRD-ECB-PI-BP-TT, Bldg. E3330/Rm. 241 5183 Blackhawk Road, APG, MD 21010-5424, telephone: 410-436-5406, email: amanda.l.yocum.civ@mail.mil.

SUPPLEMENTARY INFORMATION: None.

Brenda S. Bowen,
Army Federal Register Liaison Officer.

[FR Doc. 2015-28215 Filed 11-5-15; 8:45 am]

BILLING CODE 3710-08-P